DEPARTMENT OF COMMERCE

National Oceanic and Atmospheric Administration

50 CFR Part 648

[Docket No. 250506-0078]

RIN 0648-BN43

Fisheries of the Northeastern United States; 2025-2026 Specifications for the Mackerel, Squid, and Butterfish Fishery Management Plan

AGENCY: National Marine Fisheries Service (NMFS), National Oceanic and Atmospheric Administration (NOAA), Commerce.

ACTION: Proposed rule; request for comments.

SUMMARY: NMFS proposes 2025-2026 specifications for the Mackerel, Squid, and Butterfish Fishery Management Plan (FMP), as recommended by the Mid-Atlantic Fishery Management Council (Council). This action proposes new 2025 and projected 2026 butterfish fishery specifications, and reaffirmed 2025 chub mackerel, Illex squid, longfin squid, and Atlantic mackerel fishery specifications. The proposed specifications are intended to establish allowable harvest levels that will prevent overfishing, consistent with the most recent scientific information. This action would also adjust the minimum square mesh size for directed butterfish trawl trips; account for a 2024 Atlantic mackerel annual catch limit overage (if applicable); and correct existing regulations.

DATES: Public comments must be received by June 12, 2025.

ADDRESSES: A plain language summary of this proposed rule is available at https://www.regulations.gov/docket/NOAA-NMFS-2025-0011. You may submit comments on this document, identified by NOAA-NMFS-2025-0011, by any of the following methods:

Electronic Submission: Submit all electronic public comments via the Federal e-Rulemaking Portal. Visit https://www.regulations.gov and type NOAA-NMFS-2025-0011 in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Maria Fenton, Fishery Policy Analyst, (978) 281-9196.

SUPPLEMENTARY INFORMATION:

Background

NMFS and the Council manage fisheries for Atlantic mackerel, chub mackerel, Illex squid, longfin squid, and butterfish pursuant to the Mackerel, Squid, and Butterfish FMP. In 2023, the most recent year for which complete revenue data are available, these five species supported fisheries producing an overall $46 million in revenues.

Regulations implementing the Mackerel, Squid, and Butterfish FMP appear at 50 CFR part 648, subpart B. Section 302(g)(1)(B) of the Magnuson-Stevens Fishery Conservation and Management Act (Magnuson-Stevens Act; 16 U.S.C. 1852(g)(1)(B)) states that the Scientific and Statistical Committee (SSC) for each regional fishery management council shall provide its council with ongoing scientific advice for fishery management decisions, including recommendations for acceptable biological catch (ABC), preventing overfishing, ensuring maximum sustainable yield (MSY), and achieving rebuilding targets. The ABC is a level of catch that accounts for the scientific uncertainty in the estimate of the stock's defined overfishing limit (OFL).

The Northeast Fisheries Science Center completed the most recent butterfish management track assessment in June 2024. Consistent with the 2022 management track assessment, the results of the 2024 assessment indicated that the stock is not overfished and overfishing is not occurring. The assessment also found that spawning stock biomass (SSB) is well above the biomass target (SSBMSY proxy), and fishing mortality (F) is well below the overfishing threshold proxy (FMSY proxy). The assessment noted, however, that both of these conclusions depend heavily on estimates of natural mortality (M) and survey catchability, both of which are sources of considerable uncertainty.

The SSC met in July 2024 to review the results of the 2024 butterfish assessment and make ABC recommendations. As it did with the results of the 2022 assessment, when developing its butterfish ABC recommendations, the SSC substituted an alternative FMSY equal to ⅔*M. This adjusts the magnitude of projected catches downward, and is thought to be more consistent with ecological characteristics of short-lived forage fish. The SSC also used an OFL coefficient of variation of 150 percent to generate its ABC recommendations.

In September 2024, the Mackerel, Squid, and Butterfish Monitoring Committee reviewed the SSC's ABC recommendations, Advisory Panel and staff input, and updated fishery data, and finalized its recommendations for 2025 and projected 2026 butterfish specifications. During its October 2024 meeting, the Council reviewed this input and finalized its recommendations for proposed 2025 and projected 2026 butterfish specifications.

Section 303(c) of the Magnuson-Stevens Act (16 U.S.C. 1853(c)) allows a Council to submit proposed regulations that it deems necessary or appropriate for making modifications to regulations implementing an FMP or FMP amendment to the Secretary of Commerce. Section 304(b) of the Magnuson-Stevens Act (16 U.S.C. 1854(b)) requires the Secretary of Commerce to evaluate the Council's proposed regulations to determine whether they are consistent with the FMP, FMP amendment, the Magnuson-Stevens Act, and other applicable law. If that determination is affirmative, the Secretary must publish the proposed regulations in the Federal Register for public comment, and to promulgate a final rule after the end of the comment period. Implementing regulations for the Mackerel, Squid, and Butterfish FMP at § 648.22(d)(1) state that if the proposed specifications that are published in the Federal Register differ from those recommended by the Council, the reasons for those differences must be clearly stated, and the revised specifications must satisfy the criteria set forth in that section.

NMFS proposes to implement the Council's recommended butterfish specifications pursuant to sections 303(c) and 304(b) of the Magnuson-Stevens Act. Through this rule, NMFS also proposes to reaffirm previously-projected specifications (with several revisions to ensure that all components of the applicable specifications as described at § 648.22 are accounted for), account for a potential overage of the Atlantic mackerel ACL (if necessary), and make corrections to existing regulations pursuant to section 305(d) of the Magnuson-Stevens Act, which authorizes the Secretary to implement management measures necessary to carry out an approved fishery management plan.

Proposed 2025 and Projected 2026 Butterfish Specifications

Relative to 2024, the Council's recommended 2025 specifications would:

• Increase the OFL by 9.3 percent;

• Increase the ABC/annual catch limit (ACL) by 8.6 percent;

• Lower the annual catch target (ACT) buffer to zero percent, resulting in a 14.3-percent increase in the ACT;

• Increase assumed other discards by 52.8 percent and the total discard set-aside by 12.8 percent;

• Maintain the butterfish discard cap in the longfin squid fishery;

• Increase the domestic annual harvest (DAH) by 15.0 percent; and

• Maintain the trimester allocations for the butterfish mortality cap.

In 2026, the projected butterfish OFL, ABC, and ACT would decrease by 19.1 percent, and the projected DAH would decrease by 28.9 percent, relative to 2025. The remainder of the projected 2026 specifications would remain status quo relative to 2025. The Council's recommended 2025 and projected 2026 butterfish specifications did not include zero values for research set-aside (RSA) and total allowable level of foreign fishing (TALFF), and did not explicitly state that domestic annual processing (DAP) is set equal to DAH. While these were not part of the Council's recommendations or materials provided in the Council process, this has been how the fishery has been managed in recent years, and NMFS includes them here in order to clarify that all of the components of the butterfish specifications as described at § 648.22 are accounted for (table 1 and table 2).

Table 1—2024 and Proposed 2025 and Projected 2026 Butterfish Specifications
[Metric tons, mt]
Specification | 2024 | Proposed 2025 | Projected 2026
OFL | 16,096 | 17,587 | 14,224
ABC/ACL | 15,764 | 17,115 | 13,842
ACT buffer | 788 | 0 | 0
ACT buffer (%) | 5% | 0% | 0%
ACT | 14,976 | 17,115 | 13,842
RSA * | 0 | 0 | 0
TALFF | 0 | 0 | 0
Butterfish cap in longfin squid fishery | 3,884 | 3,884 | 3,884
Total discard set-aside (all sources) | 5,132 | 5,791 | 5,791
Assumed other discards | 1,248 | 1,907 | 1,907
DAH/DAP | 9,844 | 11,324 | 8,051
Closure threshold (amount caught) | 8,844 | 10,324 | 7,051
* The Council's RSA program has been suspended since 2014.

Table 2—Proposed 2025 and Projected 2026 Allocation of the Butterfish Mortality Cap
Trimester | Percent | Metric tons
I (January-April) | 43 | 1,670
II (May-August) | 17 | 660
III (September-December) | 40 | 1,554
Total | 100 | 3,844

The majority of the recommended butterfish specifications were set using the same methodology from previous years. However, there was a change in the approach used to calculate assumed other discards for 2025-2026. Assumed other discards refers to butterfish discards in the directed butterfish fishery and other (non-longfin squid) fisheries. Under the new approach, assumed other discards were calculated as the average annual assumed other discards from 2018-2023 plus one standard deviation. Including one standard deviation in the calculation is expected to reduce the likelihood of the ACT being exceeded. In the previous action that set 2023-2024 butterfish specifications (88 FR 48389; July 27, 2023), assumed other discards were calculated as the average annual assumed other discards from 2013-2021 plus one standard deviation. Using an updated time series to calculate assumed other discards for 2025-2026 is expected to be more reflective of current fishing conditions, reducing the likelihood of discards being underestimated.

There was also a change made in the percentage used to calculate the ACT buffer. In recent years, the ACT buffer has been set at five percent of the ABC/ACL in order to account for management uncertainty. However, given the recent low and slow pace of butterfish catch, the lack of history of butterfish ACL overages, the additional layer of precaution incorporated into the discard set-aside, and the fact that there are multiple in-season management tools in place to slow butterfish catch if necessary, the Council recommended that the ACT buffer was not necessary. The ACT buffer has already been declining in recent years, dropping from 10 percent in 2020 to 5 percent in 2021, so the proposed zero-percent buffer is a continuation of that trend.

Reaffirmed 2025 Chub Mackerel, Longfin Squid, Illex Squid, and Atlantic Mackerel Specifications

Projected 2025 specifications for the remaining fisheries managed under the Mackerel, Squid, and Butterfish FMP were implemented through several previous management actions:

• Projected 2025 chub mackerel specifications were implemented through the final rule implementing 2023-2025 specifications for the Mackerel, Squid, and Butterfish FMP (July 27, 2023; 88 FR 48389);

• Projected 2025 Illex and longfin squid specifications were implemented through the final rule implementing 2024-2026 specifications for the Mackerel, Squid, and Butterfish FMP (July 23, 2024; 89 FR 59678); and

• Projected 2025 Atlantic mackerel specifications were implemented through the final rule implementing 2024 and projected 2025 Atlantic mackerel specifications (April 12, 2024; 89 FR 25820).

During its May 2024 meeting, the Council's SSC reviewed previously projected specifications for chub mackerel, Illex squid, and longfin squid. After considering updated fishery information, the SSC concluded that no new data were available to support changes to those specifications. After reviewing recent biological data, fishery performance, and recommendations from staff, the Mackerel, Squid, Butterfish Advisory Panel, and the SSC, the Council decided to reaffirm previously projected 2025 specifications for chub mackerel, Illex squid, and longfin squid during its June 2024 meeting.

Relative to 2024, the reaffirmed 2025 specifications for chub mackerel would remain status quo. NMFS proposes reaffirming the projected 2025 chub mackerel specifications through this rule (table 3).

Table 3—Reaffirmed 2025 Specifications for Chub Mackerel
[mt]
Specification | Reaffirmed 2025
ABC | 2,300
ACL | 2,262
ACT | 2,171
Total allowable landings (TAL) | 2,041

Relative to 2024, the reaffirmed 2025 Illex squid specifications would remain status quo. However, the Council's projected Illex squid specifications did not explicitly include a zero value for RSA, but that has been the case for a number of years. NMFS has added RSA to the table here in order to clarify that all of the components of the Illex squid specifications as described at § 648.22(a)(1) are accounted for (table 4).

Table 4—Reaffirmed 2025 Specifications for Illex Squid
[mt]
Specification | Reaffirmed 2025
OFL | Unknown
ABC | 40,000
Commercial discard set-aside | 1,369
Commercial discard set-aside (%) | 3.42%
Initial optimum yield (IOY) | 38,631
RSA * | 0
DAH/DAP | 38,631
* The Council's RSA program has been suspended since 2014.

Relative to 2024, the reaffirmed 2025 longfin squid specifications would remain status quo. As with the Illex squid specifications, the Council's projected longfin squid specifications did not explicitly include a zero value for RSA, but that has been the case for a number of years. NMFS has added RSA to the table here in order to clarify that all of the components of the longfin squid specifications as described at § 648.22(a)(4)(i) are accounted for (table 5 and table 6).

Table 5—Reaffirmed 2025 Specifications for Longfin Squid
[mt]
Specification | Reaffirmed 2025
OFL | Unknown
ABC | 23,400
Commercial discard set-aside | 506.3
Commercial discard set-aside (%) | 2.16%
IOY | 22,893.70
RSA * | 0
DAH/DAP | 22,893.70
* The Council's RSA program has been suspended since 2014.

Table 6—Reaffirmed 2025 Longfin Squid Quota Trimester Allocations
Trimester | Percent of quota | Metric tons
I (January-April) | 43 | 9,844.30
II (May-August) | 17 | 3,891.90
III (September-December) | 40 | 9,157.50
Total | 100 | 22,893.70

During the development of the projected 2025 specifications, Canadian Atlantic mackerel fisheries (commercial and bait) were closed following poor results from a 2021 stock assessment, and the expectation was that this moratorium would continue. However, in April 2024, Canada announced the opening of a 2024 Atlantic mackerel bait fishery with a 470-mt quota. During its October 2024 meeting, the Council reviewed recent biological data; fishery performance; and recommendations from staff, the Mackerel, Squid, Butterfish Advisory Panel, and the SSC, and recommended reaffirming the projected 2025 Atlantic mackerel specifications (including the projected 2025 Canadian catch deduction) without changes. This decision was based on several factors, including that no new scientific information has become available since the 2025 projections were generated, catch appears to be tracking near the assumed amounts used in the projections, potential increases in Canadian catch are expected to be offset by reductions in U.S. catch, and deviations from projected catch are unlikely to have a significant impact on stock rebuilding.

Relative to 2024, the reaffirmed 2025 Atlantic mackerel specifications would remain status quo. However, the Council's projected Atlantic mackerel specifications included one error and several omissions. Regulations at § 648.22(b)(2)(ii) state that the Atlantic mackerel ACL (domestic ABC) is calculated using the formula ACL = stock-wide ABC—estimated catch of Atlantic mackerel in Canadian waters for the upcoming fishing year. When the 2025 Atlantic mackerel specifications were projected through a previous management action, the ACL was erroneously set equal to the stock-wide ABC. NMFS proposes correcting this error through this rule, setting the ACL equal to the stock-wide ABC minus the Canadian catch deduction. The recreational catch deduction, commercial discards, and DAH (previously called the commercial quota for Atlantic mackerel) were calculated properly and the values therefore would remain unchanged. NMFS also includes RSA, commercial ACT, DAP, joint venture processing (JVP), TALFF, and the river herring/shad catch cap to the table here in order to clarify that the components of the Atlantic mackerel specifications as described at § 648.22(a)(3) are taken into account (table 7).

Table 7—Corrected Reaffirmed 2025 Specifications for Atlantic Mackerel
[mt]
Specification | Reaffirmed 2025
ABC | 3,200
Canadian catch deduction | 74
ACL/U.S. ABC | 3,126
Recreational catch deduction | 2,143
Commercial ACT | 983
Commercial RSA * | 0
DAH/DAP | 868
JVP | 0
Commercial discards | 115
TALFF | 0
River herring/shad catch cap | 129
* The Council's RSA program has been suspended since 2014.

Proposed Adjustment to Minimum Mesh Size on Directed Butterfish Trips

This proposed rule also includes a proposed change to minimum mesh size for directed butterfish trawls. In July 2024, the Council received a letter from a member of industry requesting that it consider revising the minimum square mesh size for directed butterfish trawl trips (trips possessing more than 5,000 pounds (lb) (2,268 kilograms (kg)) of butterfish) to allow for the use of commercially available “8-centimeter (cm)” mesh. The current 3-inch (7.62-cm) minimum mesh size for directed butterfish trawl trips would seemingly already allow for the use of 8.0-cm (3.1-inch) mesh; however, when measured according to enforcement procedures, the commercially-marketed “8.0-cm” mesh only measured 6.99 cm (2.75 inches), making it smaller than the current minimum size. The request cited a 2015 pilot study by Cornell Cooperative Extension, which found that trawl nets constructed using the mesh in question effectively allowed for the release of juvenile butterfish from the net. During its December 2024 meeting, the Council reviewed input from staff and its Law Enforcement Committee and recommended reducing the minimum size for square mesh used on directed butterfish trawl trips from 3 inches (7.62 cm) to greater than 2⅝ inches (6.67 cm). The current minimum size for diamond mesh used on directed butterfish trawl trips would remain unchanged at 3 inches (7.62 cm). The proposed change in minimum mesh size would provide the industry with additional flexibility to use readily available materials while still minimizing catch of immature butterfish.

Potential 2024 Atlantic Mackerel ACL Overage Accounting

Atlantic mackerel accountability measure regulations at § 648.24(b)(2) state that if the Atlantic mackerel ACL is exceeded and commercial landings are responsible for the overage, then landings in excess of the Atlantic mackerel DAH must be deducted from the DAH the following year as a single-year adjustment. Regulations at § 648.24(b)(3) state that if the Atlantic mackerel ACL is exceeded and the overage has not been accommodated through the use of the landing-based accountability measure described at § 648.24(b)(2), but the overage is attributable to the commercial fishery, the exact amount by which the commercial ACT was exceeded will be deducted from the following year's commercial mackerel ACT as a single-year adjustment. Further, regulations at § 648.24(b)(4) state that if the Atlantic mackerel ACL is exceeded due to recreational landings and the stock is under a rebuilding plan, then the exact amount by which the most recent year's recreational catch estimate caused the most recent year's ACL to be exceeded will be deducted from the following year's recreational ACT as a single-year adjustment.

Preliminary data from 2024 indicate that the 2024 Atlantic mackerel DAH was likely exceeded, with data through December 31, 2024, suggesting that 116.6 percent of the DAH was landed. However, at the time of publication of this proposed rule, complete state and recreational data are not yet available to evaluate whether the Atlantic mackerel ACL was exceeded, and if so, which components of the fishery contributed to the overage. If this information is available before publication of the final rule for this action, NMFS will announce the implementation of any accountability measures necessary to address a potential 2024 Atlantic mackerel ACL overage.

Revisions to Existing Regulations

On April 12, 2024, the final rule implementing 2024 and projected 2025 specifications for the Atlantic mackerel fishery took effect (89 FR 25828). That rule revised the Atlantic mackerel accountability measure regulations at § 648.24 to remove the previous two-phase commercial fishery closure process and replace it with a single-step closure process to better accommodate the reduced specifications that were implemented through that rule. The intent was to remove the text at § 648.24(b)(1)(iii) from the CFR through this rule because it was being replaced by updated text at § 648.24(b)(1)(ii); however, it was accidentally left in the CFR. This action would remove the outdated regulatory text at § 648.24(b)(1)(iii).

Classification

Pursuant to section 304(b)(1)(A) of the Magnuson-Stevens Act, the NMFS Assistant Administrator has determined that this proposed rule is consistent with the Mackerel, Squid, and Butterfish FMP, other provisions of the Magnuson-Stevens Act, and other applicable law, subject to further consideration after public comment.

This proposed rule has been determined to be not significant for purposes of Executive Order (E.O.) 12866. This proposed rule is not a regulatory action for purposes of E.O. 14192.

The Chief Counsel for Regulation of the Department of Commerce certified to the Chief Counsel for Advocacy of the Small Business Administration (SBA) that this proposed rule, if adopted, would not have a significant economic impact on a substantial number of small entities. The purpose, context, and statutory basis for this action is described above and not repeated here. Business entities affected by this action include vessels that are issued limited access Atlantic mackerel, longfin squid, Illex squid, and butterfish permits. Although some vessels are issued open access incidental catch permits for these species, they would not be affected by this action. Open access vessels are only permitted to land relatively small amounts of Atlantic mackerel, Illex squid, longfin squid, butterfish, and chub mackerel, and this action would not revise the possession limits associated with these permits.

Any entity with combined annual fishery landing receipts less than $11 million is considered a small entity based on standards published in the Federal Register (80 FR 81194, December 29, 2015). In 2023, there were 258 active limited access butterfish permits. Approximately 187 entities held these permits, and based on SBA size standards, 179 would be small business entities. Fishing revenue and, therefore, the economic impacts of annual mackerel, squid, and butterfish specifications depend upon species availability, which may change yearly. This action is not expected to have negative impacts on any participating entities. Chub mackerel, Illex squid, longfin squid, and Atlantic mackerel quotas would be maintained at status quo. The butterfish commercial quota would increase in 2025, and decrease in 2026. However, the fishery has only landed a small percentage of the DAH in recent years; during 2019-2023, only 6.2-24.5 percent of the DAH was caught annually, which resulted in annual landings ranging from 718-3,442 mt. Therefore, the projected 2026 commercial quota would still allow for a higher harvest level relative to what the fishery has recently landed. The proposed reduction in minimum square mesh size on directed butterfish trips would be a relaxation of the current minimum size, and is an administrative measure that would not require any action on the part of participating entities that would incur costs. Participating entities may incur costs if they chose to purchase new gear or reconfigure existing gear to meet the new minimum square mesh size; however, any such changes would be voluntary. The proposed correction to existing regulations is purely administrative (removing an outdated regulation), and participating entities would not incur any costs associated with that correction.

In determining the significance of the economic impacts of the proposed action, NMFS considered the following two criteria outlined in applicable NMFS guidance: disproportionality and profitability. The proposed measures would not place a substantial number of small entities at a significant competitive disadvantage to large entities because all entities affected by this action would be equally affected. Accordingly, there are no disproportionate economic effects from this action between small and large entities. Proposed measures would not reduce fishing opportunities relative to recent mackerel, squid, and butterfish landings; change any entity's access to these resources; or impose any costs on affected entities. Therefore, this action would not be expected to reduce revenues or profit for affected entities compared to recent levels. Based on the above justification, the proposed action is not expected to have a significant economic impact on a substantial number of small entities.

This proposed rule does not contain a change to a collection of information requirement for purposes of the Paperwork Reduction Act (PRA) of 1995. The existing collection of information requirements would continue to apply under the following Office of Management and Budget (OMB) Control Number: 0648-0229, Greater Atlantic Region Dealer Purchase Reports. Notwithstanding any other provision of the law, no person is required to respond to, nor shall any person be subject to a penalty for failure to comply with, a collection of information subject to the requirements of the PRA, unless that collection of information displays a currently valid OMB Control Number.

NMFS has determined that this action would not have a substantial direct effect on one or more Indian Tribes, on the relationship between the Federal Government and Indian Tribes, or on the distribution of power and responsibilities between the Federal Government and Indian Tribes; therefore, consultation with Tribal officials under E.O. 13175 is not required, and the requirements of sections (5)(b) and (5)(c) of E.O. 13175 also do not apply. A Tribal summary impact statement under section (5)(b)(2)(B) and section (5)(c)(2)(B) of E.O. 13175 is not required and has not been prepared.

List of Subjects in 50 CFR Part 648

Fisheries, Fishing, Reporting and recordkeeping requirements.

Dated: May 7, 2025.
Samuel D. Rauch III,
Deputy Assistant Administrator for Regulatory Programs, National Marine Fisheries Service.

For the reasons set out in the preamble, NMFS proposes to amend 50 CFR part 648 as follows:

PART 648—FISHERIES OF THE NORTHEASTERN UNITED STATES

1. The authority citation for part 648 continues to read as follows:

Authority: 16 U.S.C. 1801 et seq.

2. Amend § 648.23 by revising paragraph (a)(1) to read as follows:

§ 648.23 Mackerel, squid, and butterfish gear restrictions.

(a) * * *

(1) Butterfish fishery. Owners or operators of otter trawl vessels possessing more than 5,000 lb (2.27 mt) of butterfish harvested in or from the EEZ may only fish with nets having codend mesh of greater than or equal to 3-inch (7.62-cm) diamond mesh, or greater than 2⅝-inch (6.67-cm) square mesh, as measured by methods specified in § 648.80(f), applied throughout the codend for at least 100 continuous meshes forward of the terminus of the net, or for codends with less than 100 meshes, the minimum mesh size codend shall be a minimum of one-third of the net, measured from the terminus of the codend to the headrope.

* * * * *

§ 648.24 [Amended]

3. Amend § 648.24 by removing paragraph (b)(1)(iii).

[FR Doc. 2025-08368 Filed 5-12-25; 8:45 am]

BILLING CODE 3510-22-P